NUCLEAR REGULATORY COMMISSION

[Docket Nos. 50-395, 72-1038, 50-341, 50-400, 50-369, 50-370, 72-38, 50-458, 72-49, 50-250, 50-251, 72-62, 50-298, 72-66, 50-275, 50-323, 72-26, 50-483, 72-1045, 50-280, 50-281,72-2, 72-55, 50-338, 50-339,72-16, 72-56, 50-482, and 72-79; NRC-2024-0058]

Issuance of Multiple Exemptions Regarding Security Notifications, Reports, and Recording Keeping

AGENCY: Nuclear Regulatory Commission.

ACTION: Exemptions; issuance.

SUMMARY: The U.S. Nuclear Regulatory Commission (NRC) is issuing a single notice to announce the issuance of 13 exemptions in response to requests from ten licensees in response to a change to NRC's regulations published in the Federal Register on March 14, 2023.

DATES: During the period from February 1, 2024, to February 29, 2024, the NRC granted 13 exemptions in response to requests submitted by ten licensees from November 16, 2023, to January 16, 2024.

ADDRESSES: Please refer to Docket ID NRC-2024-0058 when contacting the NRC about the availability of information regarding this document. You may obtain publicly available information related to this document using any of the following methods:

• Federal Rulemaking Website: Go to https://www.regulations.gov and search for Docket ID NRC-2024-0058. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nc.gov.

SUPPLEMENTARY INFORMATION:

I. Introduction

During the period from February 1, 2024, to February 29, 2024, the NRC granted 13 exemptions in response to requests submitted by the following licensees: Dominion Energy South Carolina, Inc.; DTE Electric Company; Duke Energy Progress, LLC/Duke Energy Carolinas, LLC; Entergy Operations, Inc.; Florida Power & Light Company; Nebraska Public Power District; Union Electric Company, doing business as Ameren Missouri; Virginia Electric and Power Company; and Wolf Creek Nuclear Operating Corporation.

These exemptions temporarily allow the licensee to deviate from certain requirements of part 73 of title 10 of the Code of Federal Regulations (10 CFR), “Physical Protection of Plants and Materials,” subpart T, “Security Notifications, Reports, and Recordkeeping.” In support of its exemption requests, the licensees agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provide the facility name, docket number, document description, document date, and ADAMS accession number for each exemption issued. Additional details on each exemption issued, including the exemption request submitted by the respective licensee and the NRC's decision, are provided in each exemption approval listed in the following tables. For additional directions on accessing information in ADAMS, see the ADDRESSES section of this document.

Document description | ADAMS accession No. | Document date
Dominion Energy South Carolina, Inc.; Virgil C. Summer Nuclear Station, Unit No. 1; Docket Nos. 50-395 and 72-1038
Virgil C. Summer Nuclear Station Unit [No.] 1, Request for Exemption from Enhanced Weapons, Firearms Background Checks, and Security Event Notifications Implementation | ML23334A246 | November 30, 2023.
Virgil C. Summer Nuclear Station, Unit [No.] 1—Exemption from Select Requirements of 10 CFR part 73—Security Notifications, Reports, and Recordkeeping and Suspicious Activity Reporting (EPID L-2023-LLE-0071) | ML24032A306 | February 15, 2024.
DTE Electric Company; Fermi-2; Docket No. 50-341
[Fermi-2] Request for Exemption from Enhanced Weapons, Firearms Background Checks and Security Event Notification Implementation | ML23334A078 | November 30, 2023.
[Fermi-2] 2023/12/04 NRR Email Capture—Follow Up of our Phone Call—Fermi 2 Exemption Request (EPID L-2023-LLE-0073) | ML24044A149 | December 4, 2023.
[Fermi-2]—Exemption from Select Requirements of 10 CFR part 73 Security Notifications, Reports, and Recordkeeping and Suspicious Activity Reporting (EPID L-2023-LLE-0073) | ML24019A184 | February 16, 2024.
Duke Energy Progress, LLC; Shearon Harris Nuclear Power Plant, Unit 1; Docket No. 50-400
[Duke Energy Fleet] RA-23-0284 Request for Exemption from Enhanced Weapons, Firearms Background Checks, and Security Event Notifications Implementation | ML23320A283 | November 16, 2023.
[Duke Energy Fleet] Supplement to Request for Exemption from Enhanced Weapons, Firearms Background Checks, and Security Event Notifications Implementation | ML23338A344 | December 4, 2023.
Shearon Harris Nuclear Power Plant, Unit 1—Exemption from Select Requirements of 10 CFR part 73 (EPID L-2023-LLE-0044 [Security Notifications, Reports, and Recordkeeping and Suspicious Activity Reporting]) | ML24032A263 | February 23, 2024.
Duke Energy Carolinas, LLC; McGuire Nuclear Station, Units 1 and 2; Docket Nos. 50-369, 50-370, and 72-38
[Duke Energy Fleet] RA-23-0284 Request for Exemption from Enhanced Weapons, Firearms Background Checks, and Security Event Notifications Implementation | ML23320A283 | November 16, 2023.
[Duke Energy Fleet] Supplement to Request for Exemption from Enhanced Weapons, Firearms Background Checks, and Security Event Notifications Implementation | ML23338A344 | December 4, 2023.
McGuire Nuclear Station, Units 1 and 2—Exemption from Select Requirements of 10 CFR part 73 (Security Notifications, Reports, and Recordkeeping and Suspicious Activity Reporting) (EPID L-2023-LLE-0063) | ML24024A218 | February 5, 2024.
Entergy Operations, Inc.; Arkansas Nuclear One, Units 1 and 2; Docket Nos. 50-313, 50-368, and 72-13
Arkansas Nuclear One, Units 1 [and] 2, Request for Exemption from Enhanced Weapons, Firearms Background Checks, and Security Event Notifications Implementation | ML23325A141 | November 21, 2023.
[Arkansas Nuclear One, Units 1 and 2] Supplement to Request for Exemption from Enhanced Weapons, Firearms Background Checks, and Security Event Notifications Implementation | ML23333A136 | November 29, 2023.
Arkansas Nuclear One, Units 1 and 2—Exemption from Select Requirements of 10 CFR part 73 (EPID L-2023-LLE-0054 [Security Notifications, Reports, and Recordkeeping and Suspicious Activity Reporting]) | ML24012A050 | February 2, 2024.
Entergy Operations Inc.; River Bend Station, Unit 1; Docket Nos. 50-458 and 72-49
River Bend Station, Unit 1, Request for Exemption from Enhanced Weapons, Firearms Background Checks, and Security Event Notifications Implementation | ML23325A143 | November 21, 2023.
[River Bend Station, Unit 1] Supplement to Request for Exemption from Enhanced Weapons, Firearms Background Checks, and Security Event Notifications Implementation | ML23333A136 | November 29, 2023.
River Bend Station, Unit 1—Exemption from Select Requirements of 10 CFR part 73 (EPID L-2023-LLE-0052 [Security Notifications, Reports, and Recordkeeping and Suspicious Activity Reporting]) | ML24031A004 | February 21, 2024.
Florida Power & Light Company; Turkey Point Nuclear Generating, Unit Nos. 3 and 4; Docket Nos. 50-250, 50-251, and 72-62
Turkey Point Nuclear [Generating, Unit Nos. 3 and 4], Part 73 Exemption Request Regarding Enhanced Weapons, Firearms Background Checks, and Security Event Notifications Final Rule | ML23320A267 | November 16, 2023.
Turkey Point [Nuclear Generating, Unit Nos. 3 and 4], Supplement to Exemption Request Regarding Enhanced Weapons, Firearms Background Checks, and Security Event Notifications Final Rule | ML23334A068 | November 29, 2023.
Turkey Point Nuclear Generating, Unit Nos. 3 and 4—Exemption from Select Requirements of 10 CFR part 73 (EPID L-2023-LLE-0038 [Security Notifications, Reports, and Recordkeeping and Suspicious Activity Reporting]) | ML24023A034 | February 5, 2024.
Nebraska Public Power District; Cooper Nuclear Station; Docket Nos. 50-298 and 72-66
Cooper Nuclear Station—Request for Exemption from Enhanced Weapons, Firearms Background Checks, and Security Event Notifications Implementation | ML23326A175 | November 22, 2023.
Cooper Nuclear Station ISFSI, Supplement to Exemption Request from Enhanced Weapons, Firearms Background Checks, and Security Event Notifications Implementation | ML23334A145 | November 30, 2023.
Cooper Nuclear Station—Exemption from Select Requirements of 10 CFR part 73 (EPID L-2023-LLE-0060 [Security Notifications, Reports, and Recordkeeping and Suspicious Activity Reporting]) | ML24019A089 | February 6, 2024.
Pacific Gas and Electric Company; Diablo Canyon Nuclear Power Plant, Units 1 and 2; Docket Nos. 50-275, 50-323 and 72-26
Diablo Canyon [Nuclear Power Plant,] Units 1 and 2, Request for Exemption from Enhanced Weapons, Firearms Background Checks, and Security Event Notifications Implementation | ML23348A368 | December 14, 2023.
Diablo Canyon Nuclear Power Plant, Units 1 and 2—Exemption from Select Requirements of 10 CFR part 73 (EPID L-2023-LLE-0084 [Security Notifications, Reports, and Recordkeeping and Suspicious Activity Reporting]) | ML24036A118 | February 14, 2024.
Union Electric Company, doing business as Ameren Missouri; Callaway Plant, Unit No. 1; Docket Nos. 50-483 and 72-1045
Callaway Plant, Unit [No.] 1—Request for Exemption from Specific Requirements in 2023 Security Rule, “Enhanced Weapons, Firearms Background Checks, and Security Event Notification” | ML23342A158 (Package) | December 7, 2023.
Callaway Plant, Unit No. 1—Exemption from Select Requirements of 10 CFR part 73 (EPID L-2023-LLE-0079 [Security Notifications, Reports, and Recordkeeping and Suspicious Activity Reporting]) | ML24036A171 | February 20, 2024.
Virginia Electric and Power Company; Surry Power Station, Unit Nos. 1 and 2; Docket Nos. 50-280, 50-281,72-2, and 72-55
Surry [Power Station], Unit [Nos.] 1 and 2, Request for Exemption from Enhanced Weapons, Firearms Background Checks, and Security Event Notifications Implementation | ML23334A234 | November 30, 2023.
Surry Power Station, Unit [Nos.] 1 and 2—Exemption from Select Requirements of 10 CFR part 73—Security Notifications, Reports, and Recordkeeping and Suspicious Activity Reporting (EPID L-2023-LLE-0069) | ML24032A471 | February 20, 2024.
Virginia Electric and Power Company; North Anna Power Station, Unit Nos. 1 and 2; Docket Nos. 50-338, 50-339,72-16, and 72-56
North Anna [Power Station], Unit [Nos.] 1 and 2, Request for Exemption from Enhanced Weapons, Firearms Background Checks, And Security Event Notifications Implementation | ML23334A243 | November 30, 2023.
North Anna Power Station, Unit [Nos.] 1 and 2—Supplement to Request for Exemption from Enhanced Weapons, Firearms Background Checked, and Security Event Notifications Implementation | ML24017A147 | January 16, 2024.
North Anna Power Station, Unit [Nos.] 1 and 2—Exemption from Select Requirements of 10 CFR part 73—Security Notifications, Reports, and Recordkeeping and Suspicious Activity Reporting (EPID L-2023-LLE-0070) | ML24043A067 | February 27, 2024.
Wolf Creek Nuclear Operating Corporation; Wolf Creek Generating Station, Unit 1; Docket Nos. 50-482 and 72-79
Wolf Creek [Generating Station, Unit 1], Request for Exemption from Enhanced Weapons, Firearms Background Checks, and Security Event Notifications Implementation | ML23334A250 | November 30, 2023.
Wolf Creek Generating Station, Unit 1—Exemption from Select Requirements of 10 CFR part 73 (EPID L-2023-LLE-0075 [Security Notifications, Reports, and Recordkeeping and Suspicious Activity Reporting]) | ML24036A009 | February 14, 2024.

Dated: March 20, 2024.
For the Nuclear Regulatory Commission.
Jeffrey A. Whited,
Chief, Plant Licensing Branch 3, Division of Operating Reactor Licensing, Office of Nuclear Reactor Regulation.

[FR Doc. 2024-06391 Filed 3-25-24; 8:45 am]

BILLING CODE 7590-01-P